DEPARTMENT OF COMMERCE

Foreign-Trade Zones Board

[Order No. 1785]

Reorganization/Expansion of Foreign-Trade Zone 53 Under Alternative Site Framework; Tulsa, OK

Pursuant to its authority under the Foreign-Trade Zones Act of June 18, 1934, as amended (19 U.S.C. 81a-81u), the Foreign-Trade Zones Board (the Board) adopts the following Order:

Whereas, the Board adopted the alternative site framework (ASF) in December 2008 (74 FR 1170, 01/12/2009; correction 74 FR 3987, 01/22/2009; 75 FR 71069-71070, 11/22/2010) as an option for the establishment or reorganization of general-purpose zones;

Whereas, the City of Tulsa-Rogers County Port Authority, grantee of Foreign-Trade Zone 53, submitted an application to the Board (FTZ Docket 8-2011, filed 2/1/2011) for authority to reorganize and expand under the ASF with a service area of Rogers County, Oklahoma, within and adjacent to the Tulsa Customs and Border Protection port of entry, FTZ 53's existing Sites 1 through 5 would be categorized as magnet sites, and the grantee proposes two new magnet sites (Sites 6 and 7);

Whereas, notice inviting public comment was given in the Federal Register (76 FR 6600-6601, 2/7/2011) and the application has been processed pursuant to the FTZ Act and the Board's regulations; and,

Whereas, the Board adopts the findings and recommendation of the examiner's report, and finds that the requirements of the FTZ Act and Board's regulations are satisfied, and that the proposal is in the public interest;

Now, therefore, the Board hereby orders:

The application to reorganize and expand FTZ 53 under the alternative site framework is approved, subject to the FTZ Act and the Board's regulations, including Section 400.28, to the Board's standard 2,000-acre activation limit for the overall general-purpose zone project, and to a five-year ASF sunset provision for magnet sites that would terminate authority for Sites 1 through 7 if not activated by September 30, 2016.

Signed at Washington, DC, this 30th day of September, 2011.
Ronald K. Lorentzen,
Deputy Assistant Secretary for Import Administration, Alternate Chairman, Foreign-Trade Zones Board.
ATTEST: ________________________________
Andrew McGilvray,
Executive Secretary.

[FR Doc. 2011-26372 Filed 10-11-11; 8:45 am]

BILLING CODE P